CORPORATION FOR NATIONAL AND COMMUNITY SERVICE

Agency Information Collection Activities; Submission to the Office of Management and Budget for Review and Approval; Comment Request; AmeriCorps All-Partner Training and Technical Assistance Survey

AGENCY: Corporation for National and Community Service.

ACTION: Notice of information collection; request for comment.

SUMMARY: The Corporation for National and Community Service, operating as AmeriCorps, has submitted a public information collection request (ICR) for review and approval in accordance with the Paperwork Reduction Act.

DATES: Written comments must be submitted to the individual and office listed in the ADDRESSES section by February 27, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Nancy Ferguson, at 202-569-1395 or by email to nferguson@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on November 11, 2022 at 65753-65754. This comment period ended January 3, 2023. Three public comments were received from this Notice. Each commenter expressed support for conducting the training and technical assistance surveys and believed the burden to be reasonable. Most comments related to the wording of some of the survey questions, and AmeriCorps generally re-worded these questions to clarify what we are asking and to fix some mistakes. Some suggestions were made to add information to the demographic questions (e.g., additional options to select, information to help respondents quickly identify their regions). For the most part, these changes were made. For a few questions, we added an “other” option to elicit suggestions for additional training topics we might not have thought of, in addition to the main topics listed in the original survey. Two commenters suggested we consider providing a paper copy of the survey ts respondents can consider the questions ahead of time before completing the electronic survey. We will provide a link on the website to a printable copy of the survey.

Title of Collection: AmeriCorps All-Partner Training and Technical Assistance Survey.

OMB Control Number: 3045-NEW.

Type of Review: New.

Respondents/Affected Public: AmeriCorps grantees and sponsors who have VISTA, AmeriCorps State and National, AmeriCorps Seniors, and Days of Service/Volunteer Generation Fund awards.

Total Estimated Number of Annual Responses: 101,000 responses.

Total Estimated Number of Annual Burden Hours: 14,083.

Abstract: This new collection represents 3 different surveys: The AmeriCorps All-Partner Training and Technical Assistance (TTA) Survey is designed to gather information about the experiences our grantees and sponsors have with our current TTA so that we can improve how we develop and provide TTA to our partners in the future. The changes brought on with the Agency's restructuring, rebranding, and the website overhaul have affected the TTA we provide to our grantees and sponsors. This survey is meant to provide a current baseline for how grantees/sponsors access, use, and receive our current TTA. Grantees and sponsors, as the target audience for the training we develop, have insight that can help AmeriCorps improve our trainings and our internal processes around training development. The Post-Training eLearning Survey and the Post-Training Live Webinar Survey are designed to collect feedback on specific trainings immediately after they are taken by granees/sponsors. These surveys are an essential piece to effective instructional design and training because they allow us to get direct feedback on individual trainings from their target audience. This feedback will help us correct errors, clarify issues, determine what other trianing needs exist—all of which will help us improve the quality of training we provide to grantees and sponsors. Together, these surveys will help us better support the recipients of AmeriCorps awards to manage their awards more effectively and efficiently. This is a new information collection.

Margery Ansara,
Acting Chief of Program Operations.

[FR Doc. 2023-01511 Filed 1-25-23; 8:45 am]

BILLING CODE 6050-28-P